FEDERAL COMMUNICATIONS COMMISSION

[FR ID 237677]

Deletion of Item From August 7, 2024 Open Meeting

August 6, 2024.

The following item has been deleted from the list of items scheduled for consideration at the Wednesday, August 7, 2024, Open Meeting. Item No. 4 was adopted by the Commission on August 5, 2024. The item was previously listed in the Commission's Sunshine Notice on Wednesday, July 31, 2024.

Item No. | Bureau | Subject
4 | MEDIA | Title: Restricted Adjudicatory Matter. Summary: The Commission will consider a restricted adjudicatory matter from the Media Bureau.

Federal Communications Commission.
Katura Jackson,
Federal Register Liaison Officer.

[FR Doc. 2024-17840 Filed 8-9-24; 8:45 am]

BILLING CODE 6712-01-P